EXPORT-IMPORT BANK

2019 EXIM Bank Advisory Committee Nomination Process

Nominations are now being accepted for the Export-Import Bank's 2019 Advisory Committee. The Congressionally-established Advisory Committee holds quarterly meetings in which its primary task is to advise the Bank concerning its policy and programs, in particular on the extent to which the Bank is meeting its mandate to provide competitive financing that equips U.S. exporters to compete for business in the global marketplace. Pending approval by EXIM's Board of Directors, the first meeting of the 2019 Advisory Committee is scheduled to be held in September 2019.

The nomination period will be open for five weeks beginning Friday, June 21, 2019-Wednesday, July 24, 2019.

Companies and supporters of potential nominees must submit a letter on company letterhead stating reasons why their candidate should be considered for the Advisory Committee. Self-nominations are permitted. All nomination forms must be completed and signed by all potential candidates. The candidate questionnaire form can be found at: https://www.exim.gov/about/leadership/advisory-committee.

All nominations are due COB Wednesday, July 24, 2019. Please email the candidate questionnaire form and additional information including supporter letters on letterhead to: external@exim.gov.

Joyce Brotemarkle Stone,
Assistant Corporate Secretary.

[FR Doc. 2019-13103 Filed 6-20-19; 8:45 am]

BILLING CODE 6690-01-P